NUCLEAR REGULATORY COMMISSION

[NRC-2019-0201]

Biweekly Notice; Applications and Amendments to Facility Operating Licenses and Combined Licenses Involving No Significant Hazards Considerations

AGENCY: Nuclear Regulatory Commission.

ACTION: Biweekly notice.

SUMMARY: Pursuant to the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued, from September 24, 2019 to October 8, 2019. The last biweekly notice was published on October 8, 2019.

DATES: Comments must be filed by November 21, 2019. A request for a hearing must be filed by December 23, 2019.

ADDRESSES: You may submit comments by any of the following methods:

• Federal Rulemaking Website: Go to https://www.regulations.gov and search for Docket ID NRC-2019-0201. Address questions about NRC docket IDs in Regulations.gov to Anne Frost; telephone: 301-287-9232; email: Anne.Frost@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Janet Burkhardt, Office of Nuclear Reactor Regulation, U.S. Nuclear Regulatory Commission, Washington, DC 20555-0001; telephone: 301-415-1384, email: janet.burkhardt@nrc.gov.

SUPPLEMENTARY INFORMATION:

I. Obtaining Information and Submitting Comments

A. Obtaining Information

Please refer to Docket ID NRC-2019-0201, facility name, unit number(s), plant docket number, application date, and subject when contacting the NRC about the availability of information for this action. You may obtain publicly-available information related to this action by any of the following methods:

• Federal Rulemaking Website: Go to https://www.regulations.gov and search for Docket ID NRC-2019-0201.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2019-0201, facility name, unit number(s), plant docket number, application date, and subject in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

Pursuant to Section 189a.(2) of the Atomic Energy Act of 1954, as amended (the Act), the U.S. Nuclear Regulatory Commission (NRC) is publishing this regular biweekly notice. The Act requires the Commission to publish notice of any amendments issued, or proposed to be issued, and grants the Commission the authority to issue and make immediately effective any amendment to an operating license or combined license, as applicable, upon a determination by the Commission that such amendment involves no significant hazards consideration, notwithstanding the pendency before the Commission of a request for a hearing from any person.

III. Notice of Consideration of Issuance of Amendments to Facility Operating Licenses and Combined Licenses and Proposed No Significant Hazards Consideration Determination

The Commission has made a proposed determination that the following amendment requests involve no significant hazards consideration. Under the Commission's regulations in § 50.92 of title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period if circumstances change during the 30-day comment period such that failure to act in a timely way would result, for example in derating or shutdown of the facility. If the Commission takes action prior to the expiration of either the comment period or the notice period, it will publish in the Federal Register a notice of issuance. If the Commission makes a final no significant hazards consideration determination, any hearing will take place after issuance. The Commission expects that the need to take this action will occur very infrequently.

A. Opportunity To Request a Hearing and Petition for Leave To Intervene

Within 60 days after the date of publication of this notice, any persons (petitioner) whose interest may be affected by this action may file a request for a hearing and petition for leave to intervene (petition) with respect to the action. Petitions shall be filed in accordance with the Commission's “Agency Rules of Practice and Procedure” in 10 CFR part 2. Interested persons should consult a current copy of 10 CFR 2.309. The NRC's regulations are accessible electronically from the NRC Library on the NRC's website at https://www.nrc.gov/reading-rm/doc-collections/cfr/. Alternatively, a copy of the regulations is available at the NRC's Public Document Room, located at One White Flint North, Room O1-F21, 11555 Rockville Pike (First Floor), Rockville, Maryland 20852. If a petition is filed, the Commission or a presiding officer will rule on the petition and, if appropriate, a notice of a hearing will be issued.

As required by 10 CFR 2.309(d) the petition should specifically explain the reasons why intervention should be permitted with particular reference to the following general requirements for standing: (1) The name, address, and telephone number of the petitioner; (2) the nature of the petitioner's right under the Act to be made a party to the proceeding; (3) the nature and extent of the petitioner's property, financial, or other interest in the proceeding; and (4) the possible effect of any decision or order which may be entered in the proceeding on the petitioner's interest.

In accordance with 10 CFR 2.309(f), the petition must also set forth the specific contentions which the petitioner seeks to have litigated in the proceeding. Each contention must consist of a specific statement of the issue of law or fact to be raised or controverted. In addition, the petitioner must provide a brief explanation of the bases for the contention and a concise statement of the alleged facts or expert opinion which support the contention and on which the petitioner intends to rely in proving the contention at the hearing. The petitioner must also provide references to the specific sources and documents on which the petitioner intends to rely to support its position on the issue. The petition must include sufficient information to show that a genuine dispute exists with the applicant or licensee on a material issue of law or fact. Contentions must be limited to matters within the scope of the proceeding. The contention must be one which, if proven, would entitle the petitioner to relief. A petitioner who fails to satisfy the requirements at 10 CFR 2.309(f) with respect to at least one contention will not be permitted to participate as a party.

Those permitted to intervene become parties to the proceeding, subject to any limitations in the order granting leave to intervene. Parties have the opportunity to participate fully in the conduct of the hearing with respect to resolution of that party's admitted contentions, including the opportunity to present evidence, consistent with the NRC's regulations, policies, and procedures.

Petitions must be filed no later than 60 days from the date of publication of this notice. Petitions and motions for leave to file new or amended contentions that are filed after the deadline will not be entertained absent a determination by the presiding officer that the filing demonstrates good cause by satisfying the three factors in 10 CFR 2.309(c)(1)(i) through (iii). The petition must be filed in accordance with the filing instructions in the “Electronic Submissions (E-Filing)” section of this document.

If a hearing is requested, and the Commission has not made a final determination on the issue of no significant hazards consideration, the Commission will make a final determination on the issue of no significant hazards consideration. The final determination will serve to establish when the hearing is held. If the final determination is that the amendment request involves no significant hazards consideration, the Commission may issue the amendment and make it immediately effective, notwithstanding the request for a hearing. Any hearing would take place after issuance of the amendment. If the final determination is that the amendment request involves a significant hazards consideration, then any hearing held would take place before the issuance of the amendment unless the Commission finds an imminent danger to the health or safety of the public, in which case it will issue an appropriate order or rule under 10 CFR part 2.

A State, local governmental body, Federally-recognized Indian Tribe, or agency thereof, may submit a petition to the Commission to participate as a party under 10 CFR 2.309(h)(1). The petition should state the nature and extent of the petitioner's interest in the proceeding. The petition should be submitted to the Commission no later than 60 days from the date of publication of this notice. The petition must be filed in accordance with the filing instructions in the “Electronic Submissions (E-Filing)” section of this document, and should meet the requirements for petitions set forth in this section, except that under 10 CFR 2.309(h)(2) a State, local governmental body, or Federally-recognized Indian Tribe, or agency thereof does not need to address the standing requirements in 10 CFR 2.309(d) if the facility is located within its boundaries. Alternatively, a State, local governmental body, Federally-recognized Indian Tribe, or agency thereof may participate as a non-party under 10 CFR 2.315(c).

If a hearing is granted, any person who is not a party to the proceeding and is not affiliated with or represented by a party may, at the discretion of the presiding officer, be permitted to make a limited appearance pursuant to the provisions of 10 CFR 2.315(a). A person making a limited appearance may make an oral or written statement of his or her position on the issues but may not otherwise participate in the proceeding. A limited appearance may be made at any session of the hearing or at any prehearing conference, subject to the limits and conditions as may be imposed by the presiding officer. Details regarding the opportunity to make a limited appearance will be provided by the presiding officer if such sessions are scheduled.

B. Electronic Submissions (E-Filing)

All documents filed in NRC adjudicatory proceedings, including a request for hearing and petition for leave to intervene (petition), any motion or other document filed in the proceeding prior to the submission of a request for hearing or petition to intervene, and documents filed by interested governmental entities that request to participate under 10 CFR 2.315(c), must be filed in accordance with the NRC's E-Filing rule (72 FR 49139; August 28, 2007, as amended at 77 FR 46562; August 3, 2012). The E-Filing process requires participants to submit and serve all adjudicatory documents over the internet, or in some cases to mail copies on electronic storage media. Detailed guidance on making electronic submissions may be found in the Guidance for Electronic Submissions to the NRC and on the NRC website at https://www.nrc.gov/site-help/e-submittals.html. Participants may not submit paper copies of their filings unless they seek an exemption in accordance with the procedures described below.

To comply with the procedural requirements of E-Filing, at least 10 days prior to the filing deadline, the participant should contact the Office of the Secretary by email at hearing.docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the hearing in this proceeding if the Secretary has not already established an electronic docket.

Information about applying for a digital ID certificate is available on the NRC's public website at https://www.nrc.gov/site-help/e-submittals/getting-started.html. Once a participant has obtained a digital ID certificate and a docket has been created, the participant can then submit adjudicatory documents. Submissions must be in Portable Document Format (PDF). Additional guidance on PDF submissions is available on the NRC's public website at https://www.nrc.gov/site-help/electronic-sub-ref-mat.html. A filing is considered complete at the time the document is submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the document on those participants separately. Therefore, applicants and other participants (or their counsel or representative) must apply for and receive a digital ID certificate before adjudicatory documents are filed so that they can obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., Eastern Time, Monday through Friday, excluding government holidays.

Participants who believe that they have a good cause for not submitting documents electronically must file an exemption request, in accordance with 10 CFR 2.302(g), with their initial paper filing stating why there is good cause for not filing electronically and requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, 11555 Rockville Pike, Rockville, Maryland 20852, Attention: Rulemaking and Adjudications Staff. Participants filing adjudicatory documents in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at https://adams.nrc.gov/ehd, unless excluded pursuant to an order of the Commission or the presiding officer. If you do not have an NRC-issued digital ID certificate as described above, click “cancel” when the link requests certificates and you will be automatically directed to the NRC's electronic hearing dockets where you will be able to access any publicly-available documents in a particular hearing docket. Participants are requested not to include personal privacy information, such as social security numbers, home addresses, or personal phone numbers in their filings, unless an NRC regulation or other law requires submission of such information. For example, in some instances, individuals provide home addresses in order to demonstrate proximity to a facility or site. With respect to copyrighted works, except for limited excerpts that serve the purpose of the adjudicatory filings and would constitute a Fair Use application, participants are requested not to include copyrighted materials in their submission.

For further details with respect to these license amendment applications, see the application for amendment which is available for public inspection in ADAMS and at the NRC's PDR. For additional direction on accessing information related to this document, see the “Obtaining Information and Submitting Comments” section of this document.

Exelon Generation Company, LLC, Docket Nos. STN 50-456 and STN 50-457, Braidwood Station, Units 1 and 2, Will County, Illinois

Date of amendment request: September 11, 2019. A publicly-available version is in ADAMS under Accession No. ML19254D105.

Description of amendment request: The amendments would revise the technical specification surveillance requirements ultimate heat sink inventory verification from a level-based to a volume-based verification.

Basis for proposed no significant hazards consideration determination: As required by 10 CFR 50.91(a), the licensee has provided its analysis of the issue of no significant hazards consideration, which is presented below:

1. Does the proposed change involve a significant increase in the probability or consequences of an accident previously evaluated?

Response: No.

The proposed change revises a Technical Specifications Surveillance Requirement to replace the requirement to verify bottom level of the Ultimate Heat Sink (UHS) with a requirement to verify the volume of the UHS. The design basis inventory requirement is unchanged; the change only pertains to the method of inventory verification. The UHS is not an initiator of any accident previously evaluated. Therefore, the proposed change does not involve a significant increase in the probability or consequences of an accident previously evaluated.

2. Does the proposed change create the possibility of a new or different kind of accident from any accident previously evaluated?

Response: No.

The proposed change revises a Technical Specifications Surveillance Requirement to replace the requirement to verify bottom level of the Ultimate Heat Sink (UHS) with a requirement to verify the volume of the UHS. The proposed change will not affect the design function or operation of any structures, systems or components (SSCs). No new equipment will be installed. As a result, the proposed change will not create any credible new failure mechanisms, malfunctions, or accident initiators not considered in the design and licensing bases.

Therefore, the proposed change does not create the possibility of a new or different kind of accident from any previously evaluated.

3. Does the proposed change involve a significant reduction in a margin of safety?

Response: No.

The proposed amendment revises a Technical Specifications Surveillance Requirement to replace the requirement to verify bottom level of the Ultimate Heat Sink (UHS) with a requirement to verify the volume of the UHS. The volume of the UHS is already a requirement of the design analysis. This change modifies the method of verifying the volume, however, it does not change the required volume documented in the analysis of record.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Tamra Domeyer, Associate General Counsel, Exelon Nuclear, 4300 Winfield Road, Warrenville, IL 60555.

NRC Acting Branch Chief: Lisa M. Regner.

FirstEnergy Nuclear Operating Company, et al., Docket No. 50-346, Davis-Besse Nuclear Power Station, Unit No. 1 (DBNPS), Ottawa County, Ohio

Date of amendment request: August 26, 2019. A publicly-available version is in ADAMS under Package Accession No. ML19241A267.

Description of amendment request: The proposed amendment would revise the technical specification (TS) requirements for the containment leakage rate testing program. Specifically, the licensee is requesting to use the Nuclear Energy Institute (NEI) topical report NEI 94-01, Revision 3-A, “Industry Guideline for Implementing Performance-Based Option of 10 CFR part 50, Appendix J” (ADAMS Accession No. ML12221A202), and the limitations and conditions specified in NEI 94-01, Revision 2-A (ADAMS Accession No. ML100620847), for Type A and Type B containment leak rate testing. The proposed amendment would allow extension of the Type A test interval up to one test in 15 years, based on acceptable performance history as defined in NEI 94-01, Revision 3-A.

Basis for proposed no significant hazards consideration determination: As required by 10 CFR 50.91(a), the licensee has provided its analysis of the issue of no significant hazards consideration, which is presented below:

1. Does the proposed amendment involve a significant increase in the probability or consequences of an accident previously evaluated?

Response: No.

The proposed test interval extensions do not involve either a physical change to the plant or a change in the way the plant is operated or controlled. The containment is designed to provide an essentially leak tight barrier against the uncontrolled release of radioactivity to the environment for postulated accidents. As such, the containment and the testing requirements invoked to periodically demonstrate the integrity of the containment exist to ensure the plant's ability to mitigate the consequences of an accident and do not involve the prevention or identification of any precursors of an accident.

The change in Type A test frequency to once-per-fifteen years, measured as an increase to the total integrated plant risk for those accident sequences influenced by Type A testing, based on the internal events probabilistic risk analysis is 0.016 person-Roentgen Equivalent Man (rem) per year. In Section 3.2.4.6, “Acceptance Guidelines,” of the final safety evaluation for NEI 94-01, Revision 2, the Nuclear Regulatory Commission staff concluded that for the purposes of assessing the risk impacts of the Type A test extension in accordance with the Electric Power Research Institute Report Number 1009325, Revision 2, methodology, a small increase in population dose should be defined as an increase in population dose of less than or equal to 1.0 person-rem per year or less than or equal to 1 percent of the total population dose, whichever is less restrictive. The risk impact for the integrated leak rate test interval extension when compared to other severe accident risks is negligible.

As documented in the NRC technical support document NUREG-1493, “Performance-Based Containment Leak-Test Program,” dated September 1995, Type B and Type C testing can detect a very large percentage of containment leakages, and the percentage of containment leakages that can be detected only by Type A testing is very small. The DBNPS Type A test history supports this conclusion.

Based on the above paragraphs, the proposed test interval extensions do not involve a significant increase in the probability of an accident previously evaluated.

The overall containment leak rate limit is maintained with the proposed test interval extension changes. Since the proposed changes do not result in a significant increase in containment leakage, the changes do not involve a significant increase in the consequences of a previously evaluated accident.

Therefore, the proposed change does not result in a significant increase in the probability or consequences of an accident previously evaluated.

2. Does the proposed change create the possibility of a new or different kind of accident from any accident previously evaluated?

Response: No.

The containment and the testing requirements to periodically demonstrate the integrity of the containment exist to ensure the plant's ability to mitigate the consequences of an accident and do not involve any accident precursors or initiators. The proposed change does not alter the design or configuration of the plant (that is, no physical change will be made to the plant and no new or different type of equipment will be installed), nor does the proposed change alter the manner in which the plant is operated or controlled.

Therefore, the proposed change does not create the possibility of a new or different kind of accident from any previously evaluated.

3. Does the proposed change involve a significant reduction in a margin of safety?

Response: No.

This amendment does not alter the way safety limits, limiting safety system set points, or limiting conditions for operation are determined. The specific requirements and conditions of the Technical Specification 5.5.15, “Containment Leakage Rate Testing Program,” exist to ensure that the degree of containment structural integrity and leak-tightness that is considered in the plant safety analysis is maintained. The overall containment leak rate limit is maintained. The design, operation, testing methods and acceptance criteria for Type A and B containment leakage tests specified in applicable codes and standards would continue to be met, with the acceptance of this proposed amendment, since they are not affected by implementation of a performance-based containment testing program.

The combination of the above factors ensures that the margin of safety in the plant safety analysis is maintained. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Rick Giannantonio, General Counsel, FirstEnergy Corporation, Mail Stop A-GO-15, 76 South Main Street, Akron, OH 44308.

NRC Acting Branch Chief: Lisa M. Regner.

Southern Nuclear Operating Company, Docket Nos. 52-025 and 52-026, Vogtle Electric Generating Plant, Units 3 and 4, Burke County, Georgia

Date of amendment request: August 16, 2019. A publicly-available version is in ADAMS under Accession No. ML19228A241.

Description of amendment request: The amendment request proposes to depart from Tier 2 information in the Updated Final Safety Analysis Report (UFSAR) (that includes plant-specific Design Control Document Tier 2 information). Specifically, the amendment request proposes changes to the UFSAR reflecting changes to the evaluation of the auxiliary building main steam safety valve vent stack openings and the auxiliary building Wall 11 openings for protection from tornado-generated missiles.

Basis for proposed no significant hazards consideration determination: As required by 10 CFR 50.91(a), the licensee has provided its analysis of the issue of no significant hazards consideration, that is presented below:

1. Does the proposed amendment involve a significant increase in the probability or consequences of an accident previously evaluated?

Response: No.

The proposed changes do not adversely affect the operation of any systems or equipment inside or outside the auxiliary building that could initiate or mitigate abnormal events, e.g., accidents, anticipated operational occurrences, earthquakes, floods, tornado missiles, and turbine missiles, or their safety or design analyses, evaluated in the UFSAR. The changes do not adversely affect any design function of the auxiliary building or the systems and equipment contained therein. The ability of the affected auxiliary building MSIV [main steam isolation valve] compartments to withstand the pressurization effects from the design basis pipe rupture is not adversely affected because the alternate relief paths are available. MSIV compartment temperature following the limiting pipe rupture remain acceptably within the envelope for environmental qualification of equipment in the compartments. The credit of the turbine building and annex building structures, equipment, and components to protect Wall 11 openings from the automobile tornado missile continues to provide adequate protection of structures, systems, and components (SSCs) required to safely shut down the plant. Case-by-case evaluations for the main steam vent stacks and Wall 11 openings for tornado generated missiles demonstrate that safe shutdown is accomplished.

Therefore, the proposed amendment does not involve a significant increase in the probability or consequences of an accident previously evaluated.

2. Does the proposed amendment create the possibility of a new or different kind of accident from any accident previously evaluated?

Response: No.

The proposed changes do not change the design function of the auxiliary building or of any of the systems or equipment in the auxiliary building or elsewhere within the nuclear island structure. These proposed changes do not introduce any new equipment or components that would result in a new failure mode, malfunction or sequence of events that could affect safety-related or non-safety-related equipment. This activity will not allow for a new fission product release path, result in a new fission product barrier failure mode, or create a new sequence of events that would result in significant fuel cladding failures.

Therefore, the proposed amendment does not create the possibility of a new or different kind of accident from any accident previously evaluated.

3. Does the proposed amendment involve a significant reduction in a margin of safety?

Response: No.

The margin of safety of the design of the auxiliary building is maintained through continued use of the current codes and standards as stated in the UFSAR and adherence to the assumptions used in the analyses of this structure and the events associated with this structure. The auxiliary building will continue to maintain a seismic Category I rating which preserves the current structural safety margins. The 3-hour fire rating requirements for the impacted auxiliary building walls are maintained. The ability of the affected auxiliary building MSIV compartments to withstand the pressurization effects from the design basis pipe rupture is not adversely affected because the alternate relief paths are available. The credit of the turbine building and annex building structures, equipment, and components to protect Wall 11 openings from the automobile tornado missile continues to provide adequate protection of structures, systems, and components (SSCs) required to safely shut down the plant. Case-by-case evaluations for the main steam vent stacks and Wall 11 openings for tornado generated missiles demonstrate that safe shutdown is accomplished. Thus, the requested changes will not adversely affect any safety-related equipment, design code, function, design analysis, safety analysis input or result, or design/safety margin. No safety analysis or design basis acceptance limit/criterion is challenged or exceeded by the requested change, thus no margin of safety is reduced.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Balch & Bingham LLP, 1710 Sixth Avenue North, Birmingham, AL 35203-2015.

NRC Branch Chief: Jennifer L. Dixon-Herrity.

Susquehanna Nuclear, LLC, Docket Nos. 50-387 and 50-388, Susquehanna Steam Electric Station, Units 1 and 2, Luzerne County, Pennsylvania

Date of amendment request: July 15, 2019. A publicly-available version is in ADAMS under Accession No. ML19196A270.

Description of amendment request: The amendments would revise the technical specifications to allow application of advanced Framatome methodologies for determining core operating limits in support of loading fuel type ATRIUM 11.

Basis for proposed no significant hazards consideration determination: As required by 10 CFR 50.91(a), the licensee has provided its analysis of the issue of no significant hazards consideration, which is presented below, along with NRC edits in square brackets:

1. Does the proposed change involve a significant increase in the probability or consequences of an accident previously evaluated?

Response: No.

The probability of an evaluated accident is derived from the probabilities of the individual precursors to that accident. The proposed change revises the list of NRC-approved analytical methods used to establish core operating limits, adjusts the low pressure SL [safety limit], and eliminates neutronic methods penalties on OPRM [Oscillation Power Range Monitor] amplitude setpoint, pin power distribution uncertainty, and bundle power correlation coefficient. The change does not require any physical plant modifications, physically affect any plant components, or entail changes in plant operation. Since no individual precursors of an accident are affected, the proposed amendments do not increase the probability of a previously analyzed event.

The consequences of an evaluated accident are determined by the operability of plant systems designed to mitigate those consequences. The proposed change revises the list of NRC-approved analytical methods used to establish core operating limits, adjusts the low pressure SL, and eliminates neutronic methods penalties on OPRM amplitude setpoint, pin power distribution uncertainty, and bundle power correlation coefficient. The changes in methodology do not alter the assumptions of accident analyses. Based on the above, the proposed amendments do not increase the consequences of a previously analyzed accident.

Therefore, the proposed change does not involve a significant increase in the probability or consequences of an accident previously evaluated.

2. Does the proposed change create the possibility of a new or different kind of accident from any accident previously evaluated?

Response: No.

Creation of the possibility of a new or different kind of accident requires creating one or more new accident precursors. New accident precursors may be created by modifications of plant configuration, including changes in allowable modes of operation. The proposed change revises the list of NRC-approved analytical methods used to establish core operating limits, adjusts the low pressure SL, and eliminates neutronic methods penalties on OPRM amplitude setpoint, pin power distribution uncertainty, and bundle power correlation coefficient. The proposed amendments do not involve any plant configuration modifications or changes to allowable modes of operation thereby ensuring no new accident precursors are created.

Therefore, the proposed change does not create the possibility of a new or different kind of accident from any previously evaluated.

3. Does the proposed change involve a significant reduction in a margin of safety?

Response: No.

The proposed change revises the list of NRC-approved analytical methods used to establish core operating limits, adjusts the low pressure SL, and eliminates neutronic methods penalties on OPRM amplitude setpoint, pin power distribution uncertainty, and bundle power correlation coefficient. The proposed change will ensure that the current level of fuel protection is maintained by continuing to ensure that the fuel design safety criteria are met. The proposed changes will not impact the capabilities of the existing NRC-approved CPR [Critical Power Ratio] correlations and ensure valid CPR calculations including applicable uncertainties for AOOs [Anticipated Operational Occurrence] defined in the FSAR [Final Safety Analysis Report]. The proposed amendment would have no impact on the structural integrity of the fuel cladding, reactor coolant pressure boundary, or containment structure. Based on the above considerations, the proposed amendment would not degrade the confidence in the ability of the fission product barriers to limit the level of radiation to the public.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

Susquehanna Nuclear, LLC, Docket Nos. 50-387 and 50-388, Susquehanna Steam Electric Station, Units 1 and 2, Luzerne County, Pennsylvania

Date of amendment request: July 15, 2019. A publicly-available version is in ADAMS under Accession No. ML19196A270.

Description of amendment request: The amendments would revise the technical specification definition of “Shutdown Margin” (SDM) to require calculation of the SDM at a reactor moderator temperature of 68 degrees Fahrenheit or a higher temperature that represents the most reactive state throughout the operating cycle. The proposed changes are based on Technical Specification Task Force (TSTF) Traveler TSTF-535, Revision 0, “Revise Shutdown Margin Definition to Address Advanced Fuel Designs.”

Basis for proposed no significant hazards consideration determination: As required by 10 CFR 50.91(a), the licensee has provided its analysis of the issue of no significant hazards consideration, which is presented below, along with NRC edits in square brackets:

1. Does the proposed change involve a significant increase in the probability or consequences of an accident previously evaluated?

Response: No.

The proposed change revises the definition of SDM. SDM is not an initiator of any accident previously evaluated. Accordingly, the proposed change to the definition of SDM has no effect on the probability of any accident previously evaluated. SDM is an assumption in the analysis of some previously evaluated accidents and inadequate SDM could lead to an increase in the consequences for those accidents. However, the proposed change revises the SDM definition to ensure that the correct SDM is determined for all fuel types at all times during the fuel cycle. As a result, the proposed change does not adversely affect the consequences of any accident previously evaluated.

Therefore, the proposed change does not involve a significant increase in the probability or consequences of an accident previously evaluated.

2. Does the proposed change create the possibility of a new or different kind of accident from any accident previously evaluated?

Response: No.

The proposed change revises the definition of SDM. The change does not involve a physical alteration of the plant (i.e., no new or different type of equipment will be installed) or a change in the methods governing normal plant operations. The change does not alter the assumptions made in the safety analysis regarding SDM.

Therefore, the proposed change does not create the possibility of a new or different kind of accident from any previously evaluated.

3. Does the proposed change involve a significant reduction in a margin of safety?

Response: No.

The proposed change revises the definition of SDM. The proposed change does not alter the manner in which SLs [safety limits], limiting safety system settings or limiting conditions for operation are determined. The proposed change ensures that the SDM assumed in determining SLs, limiting safety system settings, or limiting conditions for operation is correct for all BWR [Boiling Water Reactor] fuel types at all times during the fuel cycle.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Damon D. Obie, Associate General Counsel, Talen Energy Supply, LLC, 835 Hamilton St., Suite 150, Allentown, PA 18101.

NRC Branch Chief: James G. Danna.

Wolf Creek Nuclear Operating Corporation, Docket No. 50-482, Wolf Creek Generating Station, Unit 1, Coffey County, Kansas

Date of amendment request: August 29, 2019. A publicly-available version is in ADAMS under Accession No. ML19247C062.

Description of amendment request: The amendment would revise Technical Specification (TS) 3.7.5, “Auxiliary Feedwater (AFW) System,” to add additional conditions to the limiting conditions for operation such that one supply of essential service water (ESW) to the turbine-driven AFW (TDAFW) pump can be inoperable for up to 72 hours while still considering the TDAFW pump train operable.

Basis for proposed no significant hazards consideration determination: As required by 10 CFR 50.91(a), the licensee has provided its analysis of the issue of no significant hazards consideration, which is presented below:

1. Does the proposed amendment involve a significant increase in the probability or consequences of an accident previously evaluated?

Response: No.

The proposed change allows the TDAFW pump to remain operable for up to 72 hours with one ESW supply isolated. This is consistent with the allowed outage time for one AFW train being inoperable, and for one train of ESW being inoperable. These systems are not accident initiators (i.e., their malfunction cannot initiate an accident or transient). As there are no modifications to the plant or change in plant control systems, this change would not significantly increase accident probability. Since the change is consistent with existing allowed outage times of either one AFW train or one ESW train, the consequences of a secondary system pipe break accident are bounded by the current analyses as documented in the Updated Safety Analysis Report. As a result, the proposed change does not alter assumptions relative to the mitigation of an accident or transient event.

Therefore, the proposed change does not involve a significant increase in the probability or consequences of an accident previously evaluated.

2. Does the proposed amendment create the possibility of a new or different kind of accident from any accident previously evaluated?

Response: No.

The proposed change allows the TDAFW pump to remain operable for up to 72 hours with one ESW supply isolated. This is consistent with the allowed outage time for one AFW train being inoperable, and for one train of ESW being inoperable. With respect to any new or different kind of accident, there are no proposed design changes nor are there any changes in the method by which any safety-related plant structures, systems, or components performs their specified safety function. The proposed change will not affect the normal method of plant operation or change any operating parameters. No new accident scenarios, transient precursors, failure mechanisms, or limiting single failures will be introduced as a result of this amendment.

Therefore, the proposed change will not create the possibility of a new or different kind of accident from any accident previously evaluated.

3. Does the proposed amendment involve a significant reduction in the margin of safety?

Response: No.

The proposed change allows the TDAFW pump to remain operable for up to 72 hours with one ESW supply isolated. This is consistent with the. allowed outage time for AFW train being inoperable, and for one train of ESW being inoperable. The proposed change does not adversely affect any current plant safety margins, or the reliability of the equipment assumed in the safety analysis. Therefore, there are no changes being made to any safety analysis assumptions, safety limits or limiting safety system settings that would adversely affect plant safety as a result of the proposed change.

Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 1200 17th Street NW, Washington, DC 20036.

NRC Branch Chief: Robert J. Pascarelli.

IV. Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items can be accessed as described in the “Obtaining Information and Submitting Comments” section of this document.

Duke Energy Carolinas, LLC, Docket Nos. 50-269, 50-270, and 50-287, Oconee Nuclear Station, Units 1, 2, and 3, Oconee County, South Carolina

Date of amendment request: February 12, 2018, as supplemented by letters dated August 8, 2018, and August 23, 2018.

Brief description of amendments: The amendments revised the Duke Energy Physical Security Plan for Oconee Nuclear Station to include additional protective measures during a specific infrequent short-term operating state, including a modification that provides additional access restriction.

Date of issuance: September 30, 2019.

Effective date: As of the date of issuance and shall be implemented within 1 year of receipt of all external agency approvals.

Amendment Nos.: 414 (Unit 1), 416 (Unit 2), and 415 (Unit 3). A publicly-available version is in ADAMS under Accession No. ML19056A086; documents related to these amendments are listed in the Safety Evaluation enclosed with the amendments.

Facility Operating License Nos. DPR-38, DPR-47, and DPR-55: The amendments revised the Duke Energy Physical Security Plan.

Date of initial notice in Federal Register: October 2, 2018 (83 FR 49590). The supplemental letter dated August 23, 2018, provided additional information that clarified the application, did not expand the scope of the application as originally noticed, and did not change the staff's original proposed no significant hazards consideration determination as published in the Federal Register.

The Commission's related evaluation of the amendment and public comments is contained in a Safety Evaluation dated September 30, 2019.

No significant hazards consideration comments received: Yes.

Duke Energy Progress, LLC, Docket No. 50-261, H. B. Robinson Steam Electric Plant, Unit No. 2, Darlington County, South Carolina

Date of amendment request: April 5, 2018, as supplemented by letters dated June 6, 2018, November 13, 2018, and May 6, 2019.

Brief description of amendment: The amendment added a new license condition to the renewed facility operating license to permit the implementation of 10 CFR 50.69, “Risk-informed categorization and treatment of structures, systems and components for nuclear power reactors.”

Date of issuance: September 24, 2019.

Effective date: As of the date of issuance and shall be implemented within 60 days of issuance.

Amendment No.: 266. A publicly-available version is in ADAMS under Accession No. ML19205A289; documents related to the amendment are listed in the Safety Evaluation enclosed with the amendment.

Renewed Facility Operating License No. DPR-23: The amendment revised the renewed facility operating license.

Date of initial notice in Federal Register: June 5, 2018 (83 FR 26101). The supplemental letters dated June 6, 2018, November 13, 2018, and May 6, 2019, provided additional information that clarified the application, did not expand the scope of the application as originally noticed, and did not change the NRC staff's original proposed no significant hazards consideration determination as published in the Federal Register.

The Commission's related evaluation of the amendment is contained in a Safety Evaluation dated September 24, 2019.

No significant hazards consideration comments received: No.

Duke Energy Progress, LLC, Docket Nos. 50-325 and 50-324, Brunswick Steam Electric Plant, Units 1 and 2, Brunswick County, North Carolina

Date of amendment request: August 14, 2018, as supplemented by letters dated February 8, 2019, and May 16, 2019.

Brief description of amendments: The amendments adopted Technical Specifications Task Force (TSTF) Traveler TSTF-439, “Eliminate Second Completion Times Limiting Time from Discovery of Failure to Meet an LCO [Limiting Condition for Operation].” The change deleted second completion times from the affected required actions contained in the technical specifications (TSs), removed the example contained in TS Section 1.3, and added a discussion about alternating between conditions.

Date of issuance: September 23, 2019.

Effective date: As of the date of issuance and shall be implemented within 120 days of issuance.

Amendment Nos.: 293 (Unit 1) and 321 (Unit 2). A publicly-available version is in ADAMS under Accession No. ML19233A073; documents related to these amendments are listed in the Safety Evaluation enclosed with the amendments.

Renewed Facility Operating License Nos. DPR-71 and DPR-62: The amendments revised the renewed facility operating licenses and TSs.

Date of initial notice in Federal Register: October 9, 2018 (83 FR 50695). The letters dated February 8 and May 16, 2019, provided additional information that clarified the application, did not expand the scope of the application as originally noticed, and did not change the NRC staff's original proposed no significant hazards consideration determination as published in the Federal Register.

The Commission's related evaluation of the amendments is contained in a Safety Evaluation dated September 23, 2019.

No significant hazards consideration comments received: No.

Entergy Operations, Inc., Docket No. 50-313, Arkansas Nuclear One, Unit 1, Pope County, Arkansas

Date of amendment request: December 19, 2018, as supplemented by letter dated June 18, 2019.

Brief description of amendment: The amendment revised the Arkansas Nuclear One, Unit 1, technical specifications (TSs) to adopt Technical Specifications Task Force (TSTF) Traveler TSTF-567, Revision 1, “Add Containment Sump TS to Address GSI [Generic Safety Issue]-191 Issues.”

Date of issuance: September 27, 2019.

Effective date: As of the date of issuance and shall be implemented within 90 days from the date of issuance.

Amendment No.: 266. A publicly-available version is in ADAMS under Accession No. ML19220A938; documents related to this amendment are listed in the Safety Evaluation enclosed with the amendment.

Renewed Facility Operating License No. DPR-51: Amendment revised the renewed facility operating license and TSs.

Date of initial notice in Federal Register: February 26, 2019 (84 FR 6179). The supplemental letter dated June 18, 2019, provided additional information that clarified the application, did not expand the scope of the application as originally noticed, and did not change the NRC staff's original proposed no significant hazards consideration determination as published in the Federal Register.

The Commission's related evaluation of the amendment is contained in a Safety Evaluation dated September 27, 2019.

No significant hazards consideration comments received: No.

Exelon Generation Company, LLC, Docket No. 50-461, Clinton Power Station, Unit No. 1, DeWitt County, Illinois

Date of amendment request: September 28, 2018.

Brief description of amendment: The amendment changed technical specifications (TSs) to be consistent with NRC-approved Industry Technical Specification Task Force (TSTF) Standard Technical Specification Change Traveler, TSTF-476, Revision 1. The availability of this TS improvement was announced in the Federal Register on May 23, 2007 (72 FR 29004).

Date of issuance: September 30, 2019.

Effective date: As of the date of issuance and shall be implemented within 90 days from the date of issuance.

Amendment No.: 226. A publicly-available version is in ADAMS under Accession No. ML19238A308. Documents related to the amendment are listed in the related Safety Evaluation enclosed with the amendment.

Facility Operating License No. NPF-62: The amendment revised the license and the TSs.

Date of initial notice in Federal Register: November 20, 2018 (83 FR 58611).

The Commission's related evaluation of the amendment is contained in a Safety Evaluation dated September 30, 2019.

No significant hazards consideration comments received: No.

Exelon Generation Company, LLC, Docket Nos. 50-352 and 50-353, Limerick Generating Station, Units 1 and 2, Montgomery County, Pennsylvania

Date of amendment request: October 19, 2018.

Brief description of amendments: The amendments revised the Limerick Generating Station, Units 1 and 2, technical specification (TS) requirements for inoperable isolation actuation instrumentation to allow for isolation of the flow path(s) that penetrate the primary containment boundary instead of requiring closure of specific primary containment isolation valves. The amendments also clarified the TS action for inoperable isolation actuation instrumentation for the reactor enclosure manual isolation function.

Date of issuance: October 3, 2019.

Effective date: As of the date of issuance and shall be implemented within 90 days.

Amendment Nos.: 237 (Unit 1) and 200 (Unit 2). A publicly-available version is in ADAMS under Accession No. ML19207A006; documents related to these amendments are listed in the Safety Evaluation enclosed with the amendments.

Renewed Facility Operating License Nos. NPF-39 and NPF-85: The amendments revised the renewed facility operating licenses and TSs.

Date of initial notice in Federal Register: December 18, 2018 (83 FR 64893).

The Commission's related evaluation of the amendments is contained in a Safety Evaluation dated October 3, 2019.

No significant hazards consideration comments received: No.

Southern Nuclear Operating Company, Docket Nos. 52-025 and 52-026, Vogtle Electric Generating Plant (VEGP), Units 3 and 4, Burke County, Georgia

Date of amendment request: May 10, 2019.

Brief description of amendments: The amendments consist of changes to the plant-specific emergency planning (EP) Inspections, Tests, Analyses, and Acceptance Criteria (ITAAC) in Appendix C of the VEGP Units 3 and 4 combined licenses (COLs). The amendments revised COL Appendix C of the VEGP Units 3 and 4 COLs, by deleting redundant plant-specific EP ITAAC that were either bounded by other ITAAC or were redundant to document submittal regulatory requirements.

Date of issuance: September 5, 2019.

Effective date: As of the date of issuance and shall be implemented within 30 days of issuance.

Amendment Nos.: 163 (Unit 3) and 161 (Unit 4). A publicly-available version is in ADAMS under Package Accession No. ML19213A288; documents related to these amendments are listed in the Safety Evaluation enclosed with the amendments.

Facility Combined Licenses Nos. NPF-91 and NPF-92: The amendments revised the facility COLs.

Date of initial notice in Federal Register: July 2, 2019 (84 FR 31629).

The Commission's related evaluation of the amendment is contained in a Safety Evaluation dated September 5, 2019.

No significant hazards consideration comments received: No.

Dated at Rockville, Maryland, this 11th day of October, 2019.
For the Nuclear Regulatory Commission.
Craig G. Erlanger,
Director, Division of Operating Reactor Licensing, Office of Nuclear Reactor Regulation.

[FR Doc. 2019-22720 Filed 10-21-19; 8:45 am]

BILLING CODE 7590-01-P